AGENCY FOR INTERNATIONAL DEVELOPMENT

Notice of Meeting

Pursuant to the Federal Advisory Committee Act, notice is hereby given of a meeting of the Advisory Committee on Voluntary Foreign Aid (ACVFA).

Date: Wednesday, May 23, 2007 (9 a.m. to 3 p.m.)

Location: National Press Club Ballroom, 529 14th Street, NW., Washington, DC 20045.

Please note that this is the anticipated agenda and is subject to change.

ACVFA Working Groups: The ACVFA has created three working groups to reflect the U.S. foreign assistance reforms framework: Economic growth, governing justly and democratically, and implementation mechanisms. The working groups will present papers with recommendations and lessons learned. Following this, respondents from the foreign assistance community will provide feedback. In addition, the general public will be given the opportunity to provide comments and pose questions. The working groups' final recommendations will be made available on the ACVFA Web site after the public meeting: http://www.usaid.gov/about_usaid/acvfa.

Africom: Rear Admiral Robert T. Moeller, Special Assistant to the Commander of U.S. CENTCOM has been invited to speak on the new U.S. Command for Africa (Africom). The presentation will include a discussion of the Command's mandate and its ongoing relationship with USAID and partners in the field. Michael Hess, USAID's Assistant Administrator for Democracy, Conflict and Humanitarian Assistance will join the Admiral for the discussion and questions.

Keynote: Acting Deputy Administrator James Kunder has been invited to address the ACVFA on USAID's mission in support of Transformational Diplomacy.

Appreciation: Benjamin Homan will be recognized for his service as Chairman of the ACVFA from August 2005 to December 2006.

The meeting is free and open to the public. Persons wishing to attend the meeting can register online at http://www.usaid.gov/about_usaid/acvfa or contact Ellen Blankenstein at ellen@websterconsulting.com or 202-237-0090 extension 19 or Jocelyn Rowe at jrowe@usaid.gov or 202-712-4002.

Dated: April 30, 2007.
Jocelyn M. Rowe,
Executive Director, Advisory Committee on Voluntary Foreign Aid (ACVFA), U.S. Agency for International Development.

[FR Doc. E7-8667 Filed 5-4-07; 8:45 am]

BILLING CODE 6116-01-P